DEPARTMENT OF THE INTERIOR

Bureau of Ocean Energy Management

[Docket No. BOEM-2018-0004]

Commercial Leasing for Wind Power on the Outer Continental Shelf in the New York Bight—Call for Information and Nominations

AGENCY: Bureau of Ocean Energy Management, Interior.

ACTION: Notice; reopening of comment period.

SUMMARY: On April 11, 2018, the Bureau of Ocean Energy Management (BOEM) issued a Call for Information and Nominations for Commercial Leasing for Wind Power on the Outer Continental Shelf (OCS) in the New York Bight (Call). BOEM invited the submission of information and nominations for commercial wind leases that would allow a lessee to propose the construction of a wind energy project in the New York Bight, and to develop one or more projects, if approved, after further environmental review. Additionally, the announcement requested comments and information from interested and affected parties about site conditions, resources, and multiple uses in close proximity to, or within, the Call Areas. Information received will help inform BOEM's identification of Wind Energy Areas, which would be further evaluated for potential commercial wind leasing. The April 11 notice had a comment period deadline of May 29, 2018. Several stakeholders have contacted BOEM and requested additional time to submit comments. BOEM agrees that it would be helpful in this instance to reopen the comment period.

DATES: BOEM must receive nominations describing your interest in one or more, or any portion of, the Call Areas, by a postmarked date of July 30, 2018, for your nomination to be considered. BOEM requests comments or submissions of information to be postmarked or delivered by this same date. BOEM will consider only those nominations received during the comment period.

ADDRESSES: If you are submitting a nomination for a lease area in response to this Call, please submit your nomination by following the instructions in the “Required Nomination Information” section of the Call (83 FR 15602, 15617) to the following address: BOEM, Office of Renewable Energy Programs, 45600 Woodland Road (VAM-OREP), Sterling, Virginia 20166. In addition to a paper copy of the nomination, include an electronic copy of the nomination on a data storage device. BOEM will list the parties that submitted nominations and the location of the proposed lease areas (i.e., OCS blocks nominated) on the BOEM website after the comment period has closed.

Comments and other submissions of information may be submitted by either of the following two methods:

1. Federal eRulemaking Portal: http://www.regulations.gov. In the entry entitled, “Enter Keyword or ID,” enter BOEM-2018-0004, and then click “search.” Follow the instructions to submit public comments and view supporting and related materials available for this notice.

2. U.S. Postal Service or other delivery service. Send your comments and information to the following address: Bureau of Ocean Energy Management, Office of Renewable Energy Programs, 45600 Woodland Road (VAM-OREP), Sterling, Virginia 20166.

All responses will be reported on http://www.regulations.gov.

If you wish to protect the confidentiality of your nominations or comments, clearly mark the relevant sections and request that BOEM treat them as confidential. Please label privileged or confidential information “Contains Confidential Information,” and consider submitting such information as a separate attachment. Treatment of confidential information is addressed in the section of this Call entitled, “Protection of Privileged or Confidential Information.” Information that is not labeled as privileged or confidential will be regarded by BOEM as suitable for public release.

FOR FURTHER INFORMATION CONTACT: Luke Feinberg, BOEM, Office of Renewable Energy Programs, 45600 Woodland Road (VAM-OREP), Sterling, Virginia 20166, (703) 787-1705 or luke.feinberg@boem.gov.

SUPPLEMENTARY INFORMATION:

Authority: This Call is published pursuant to subsection 8(p)(3) of the OCS Lands Act, 43 U.S.C. 1337(p)(3), which was added by section 388 of the Energy Policy Act of 2005 (EPAct), as well as the implementing regulations at 30 CFR part 585.

Background and Purpose: The OCS Lands Act requires BOEM to award leases competitively, unless BOEM makes a determination that there is no competitive interest (43 U.S.C. 1337(p)(3)). BOEM will make this determination after reviewing the nominations received in response to this Call. This Call also requests information from interested and affected parties on issues relevant to potential leasing within the Call Areas.

The responses to this Call could lead to the initiation of a competitive leasing process in some parts of the Call Areas (i.e., where competition exists), and a noncompetitive process in other parts of the Call Areas (i.e., where no competitive interest exists). The Call, described in detail in the Federal Register (83 FR 15602 (April 11, 2018)), had an initial comment deadline of May 29, 2018, but several stakeholders have requested additional time to comment. BOEM agrees that it would be helpful in this instance to reopen the comment period until July 30, 2018.

Protection of Privileged or Confidential Information: BOEM will protect privileged or confidential information that you submit as provided in the Freedom of Information Act (FOIA). Exemption 4 of FOIA applies to trade secrets and commercial or financial information that you submit that is privileged or confidential. If you wish to protect the confidentiality of such information, clearly mark it and request that BOEM treat it as confidential. BOEM will not disclose such information if it qualifies for exemption from disclosure under FOIA. Please label privileged or confidential information “Contains Confidential Information” and consider submitting such information as a separate attachment.

BOEM will not treat as confidential any aggregate summaries of such information or comments not containing such information. Additionally, BOEM will not treat as confidential (1) the legal title of the nominating entity (for example, the name of your company), or (2) the list of whole or partial blocks that you are nominating. Information that is not labeled as privileged or confidential will be regarded by BOEM as suitable for public release.

Dated: July 11, 2018.
Walter D. Cruickshank,
Acting Director, Bureau of Ocean Energy Management.

[FR Doc. 2018-15133 Filed 7-13-18; 8:45 am]

BILLING CODE 4310-MR-P